DEPARTMENT OF HEALTH AND HUMAN SERVICES

Centers for Medicare & Medicaid Services

42 CFR Parts 409, 424, and 484

[CMS-1625-CN2]

RIN 0938-AS46

Medicare and Medicaid Programs; CY 2016 Home Health Prospective Payment System Rate Update; Home Health Value-Based Purchasing Model; and Home Health Quality Reporting Requirements; Correction

AGENCY: Centers for Medicare & Medicaid Services (CMS), HHS.

ACTION: Proposed rule; correction.

SUMMARY: This document corrects technical errors in the proposed rule that appeared in the July 10, 2015 Federal Register entitled “Medicare and Medicaid Programs; CY 2016 Home Health Prospective Payment System Rate Update; Home Health Value-Based Purchasing Model; and Home Health Quality Reporting Requirements.”

DATES: The comment due date for the proposed rule published in the Federal Register on July 10, 2015 (80 FR 39839) remains September 4, 2015.

FOR FURTHER INFORMATION CONTACT: Michelle Brazil, (410) 786-1648.

SUPPLEMENTARY INFORMATION:

I. Background

In FR Doc. 2015-16790, published in the Federal Register on July 10, 2015 (80 FR 39839), there were technical errors that are identified and corrected in the Correction of Errors section of this correcting document.

II. Summary of Errors

On page 39898, in our discussion of collection of OASIS data, we inadvertently provided an incorrect Web address for a Web site.

On page 39898, in our discussion concerning the specifications and data for NQF #0678, we inadvertently provided an incorrect Web address for a Web site.

III. Correction of Errors

In proposed rule FR Doc. 2015-16790, beginning on page 39840 in the issue of July 10, 2015, make the following corrections in the SUPPLEMENTARY INFORMATION:

1. On page 39898, in the first column, in the second full paragraph, the reference to the Web site beginning on line 25, “OASIS Manual http://www.cms.gov/Medicare/Quality-Initiatives-Patient-Assessment-Instruments/” is corrected to read “downloads section https://www.cms.gov/Medicare/Quality-Initiatives-Patient-Assessment-Instruments/HomeHealthQualityInits/HHQIQualityMeasures.html”.

2. On page 39898, in the second column, in the first full paragraph, the Web site in line 11, “http://www.cms.gov/Medicare/Quality-Initiatives-Patient-Assessment-Instruments/Post-Acute-Care-Quality-Initiatives/PAC-Quality-Initiatives.html” is corrected to read “https://www.cms.gov/Medicare/Quality-Initiatives-Patient-Assessment-Instruments/HomeHealthQualityInits/HHQIQualityMeasures.html”.

Dated: August 12, 2015.
Madhura Valverde,
Executive Secretary to the Department, Department of Health and Human Services.

[FR Doc. 2015-20336 Filed 8-14-15; 11:15 am]

BILLING CODE 4120-01-P